FEDERAL COMMUNICATIONS COMMISSION

[CC Docket No. 98-146; FCC 00-57]

Inquiry Concerning the Deployment of Advanced Telecommunications Capability to All Americans in a Reasonable and Timely Fashion, and Possible Steps To Accelerate Such Deployment Pursuant to Section 706 of the Telecommunications Act of 1996

AGENCY: Federal Communications Commission.

ACTION: Notice.

SUMMARY: In this document, the Federal Communications Commission begins its second inquiry into whether advanced telecommunications capability is being deployed to all Americans in a reasonable and timely fashion.

DATES: Comments are due on or before March 20, 2000. Reply Comments are due on or before April 4, 2000.

FOR FURTHER INFORMATION CONTACT: Information: John Berresford, Senior Antitrust Attorney, Industry Analysis Division, Common Carrier Bureau, at (202) 418-1886.

SUPPLEMENTARY INFORMATION: This is a summary of the Commission's Notice of Inquiry released February 18, 2000 (FCC 00-57). The full text of the Inquiry is available for inspection and copying during normal business hours in the FCC Reference Center, Room CY-A257, 445 12th Street, SW, Washington, DC 20554. The complete text also may be purchased from the Commission's copy contractor, International Transcription Service, Inc. (202) 857-3800, 1231 20th Street, NW, Washington, DC 20037. Additionally, the complete item is available on the Commission's website at <http://www.fcc.gov/Bureaus/Common_Carrier/Orders/2000>.

Synopsis of the Inquiry

1. In the document summarized here, the Federal Communications Commission begins its second inquiry into whether advanced telecommunications capability, commonly known as “broadband,” is being deployed to all Americans. Congress charged the FCC with monitoring the deployment advanced telecommunications capability and gave the FCC authority, if necessary, to accelerate deployment if the FCC determined that deployment was not occurring in a reasonable and timely fashion. In order to make an informed judgment about whether deployment is reasonable and timely, the Inquiry seeks from various groups objective, empirical data about the current state of broadband deployment.

2. Specifically, the Inquiry seeks comment on four areas: (1) Definitional issues of “advanced telecommunications capability” (2) information about the present deployment of advanced telecommunications capability to various groups; (3) long-term economic analysis of the market forces bringing advanced telecommunications capability to the residential market and other historically underserved areas; (4) actions available to the FCC and state authorities if it is determined that advanced telecommunications capability is not being deployed to all Americans in a reasonable and timely fashion. Once the FCC has gathered this information, it will release a Report within 180 days detailing its findings.

Ordering Clauses

Accordingly, It is ordered that, pursuant to sections 706 of the Telecommunications Act of 1996, this Notice of Inquiry is adopted.

Federal Communications Commission.

Peyton Wynns,
Chief, Industry Analysis Division, Common Carrier Bureau.

[FR Doc. 00-4836 Filed 2-29-00; 8:45 am]

BILLING CODE 6712-01-P